DEPARTMENT OF THE INTERIOR

National Park Service

[NPS-NCR-13339; PPNCNAMAN0, PPMPSPD1Y.YM00000]

Proposed Information Collection; National Capital Region Application for Public Gathering

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on February 28, 2014. We may not conduct or sponsor and you are not required to respond to a collection of information unless it displays a currently valid OMB control number.

DATES: To ensure that we are able to consider your comments on this IC, we must receive them by September 23, 2013.

ADDRESSES: Send your comments on the IC to Madonna L. Baucum, Information Collection Clearance Officer, National Park Service, 1849 C Street NW., MS 2601, Washington, DC 20240 (mail); or madonna_baucum@nps.gov (email). Please include “1024-0021” in the subject line of your comments.

FOR FURTHER INFORMATION CONTACT: To request additional information about this IC, contact Robbin Owen, National Capital Region, National Park Service, 900 Ohio Drive SW., Washington, DC 20024 (mail) or at 202-245-4715 (telephone); or Marisa Richardson via email at Marisa_Richardson@nps.gov.

SUPPLEMENTARY INFORMATION:

I. Abstract

The Division of Permits Management of the National Mall and Memorial Parks issues permits for public gatherings (special events and demonstrations) held on NPS property within the National Capital Region. Regulations at 36 CFR 7.96(g) govern permits for public gatherings and implement statutory mandates to provide for resource protection and public enjoyment. These regulations reflect the special demands on many of the urban National Capital Region parks as sites for demonstrations and special events. A special event is any presentation, program, or display that is recreational, entertaining, or celebratory in nature; e.g., sports events, pageants, celebrations, historical reenactments, regattas, entertainments, exhibitions, parades, fairs, festivals and similar events. The term “demonstration” includes demonstrations, picketing, speechmaking, marching, holding vigils or religious services and all other like forms of conduct that involve the communication or expression of views or grievances.

Those who want to hold a special event or demonstration must complete an Application for a Permit to Conduct a Demonstration or Special Event in Park Areas and a Waiver of Numerical Limitations on Demonstrations for White House Sidewalk and/or Lafayette Park. The current application is available online at http://www.nps.gov/nama/planyourvisit/permits.htm. We collect information on:

• Sponsor (name, address, telephone and fax numbers, email address, Web site address).

• Type of permit requested.

• Logistics (dates/times, location, purpose, plans, and equipment for proposed activity).

• Potential civil disobedience and traffic control issues.

• Circumstances that may warrant park rangers being assigned to the event.

II. Data

OMB Control Number: 1024-0021.

Title: National Capital Region Application for Public Gathering, 36 CFR 7.96(g).

Service Form Number(s): None.

Type of Request: Extension of a currently approved collection.

Description of Respondents: Individuals, organizations, businesses, and State, local, or tribal governments.

Respondent's Obligation: Required to obtain a benefit.

Frequency of Collection: On occasion.

Estimated Number of Annual Respondents: 2,746.

Estimated Number of Annual Responses: 2,746.

Completion Time per Response: 30 minutes.

Estimated Total Annual Burden Hours: 1,373 hours.

Estimated Annual Nonhour Cost Burden: $329,520, associated with application fees. There is no fee for applications for First Amendment activities.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: July 17, 2013.
Madonna L. Baucum,
Information Collection Clearance Officer, National Park Service.

[FR Doc. 2013-17655 Filed 7-22-13; 8:45 am]

BILLING CODE 4310-EH-P